DEPARTMENT OF LABOR

Employment and Training Administration

[TA-W-58,985]

Bristol Compressors, a Subsidiary of York International, a Johnson Controls Company, Bristol, VA; Amended Certification Regarding Eligibility To Apply for Worker Adjustment Assistance and Alternative Trade Adjustment Assistance

In accordance with Section 223 of the Trade Act of 1974 (19 U.S.C. 2273), and Section 246 of the Trade Act 1974 (26 U.S.C. 2813), as amended, the Department of Labor issued a Certification of Eligibility to Apply for Worker Adjustment Assistance and Alternative Trade Adjustment Assistance on June 30, 2006, applicable to workers of Bristol Compressors, a subsidiary of York International, a Johnson Controls Company, Bristol, Virginia. The notice was published in the Federal Register on July 17, 2006 (71 FR 40550).

At the request of the State agency, the Department reviewed the certification for workers of the subject firm. The workers are engaged in the production of compressors.

New findings show that there was a previous certification, TA-W-53,659, issued on January 7, 2004, for workers of Bristol Compressors, Inc., a subsidiary of York International Corporation, Bristol, Virginia who were engaged in employment related to the production of compressors. That certification expires January 7, 2006. To avoid an overlap in worker group coverage, the certification is being amended to change the impact date from March 2, 2005 to January 8, 2006, for workers of the subject firm.

The amended notice applicable to TA-W-58,985 is hereby issued as follows:

All workers of Bristol Compressors, a subsidiary of York International, a Johnson Controls Company, Bristol, Virginia, who became totally or partially separated from employment on or after January 8, 2006, through June 30, 2008, are eligible to apply for adjustment assistance under Section 223 of the Trade Act of 1974 and are also eligible to apply for alternative trade adjustment assistance under Section 246 of the Trade Act of 1974.

Signed at Washington, DC, this 29th day of August 2006.
Elliott S. Kushner,
Certifying Officer, Division of Trade Adjustment Assistance.

[FR Doc. E6-14591 Filed 9-1-06; 8:45 am]

BILLING CODE 4510-30-P